DEPARTMENT OF AGRICULTURE

Agricultural Marketing Service

[PY-00-004]

Voluntary Grade Standards for Rabbits and U.S. Grade C-Quality Poultry

AGENCY: Agricultural Marketing Service, USDA.

ACTION: Notice.

SUMMARY: The Agricultural Marketing Service (AMS) is changing the voluntary United States Grade Standards for Rabbits. Specifically, the changes will add stewer rabbits to the roaster and mature rabbit class; update and clarify the tolerances for conformation, fleshing, disjointed and broken bones, and freezing; and provide new tolerances for cuts and tears and discolorations. The standards are being updated to provide more specific grade factors for increasing accuracy of grade determination. Additionally, AMS is updating the voluntary United States Grade Standards for Grade C-quality ready-to-cook poultry for consistency with existing U.S. Grade A and B standards.

EFFECTIVE DATE: September 5, 2002.

FOR FURTHER INFORMATION CONTACT: Contact Rex A. Barnes at (202) 720-3271.

SUPPLEMENTARY INFORMATION: Poultry grading is a voluntary program provided under the Agricultural Marketing Act of 1946, as amended, 7 U.S.C. 1621 et seq., and is offered on a fee-for-service basis. Section 203(c) of the Agricultural Marketing Act of 1946, as amended, directs and authorizes the Secretary of Agriculture “to develop and improve standards of quality, condition, grade, and packaging and recommend and demonstrate such standards in order to encourage uniformity and consistency in commercial practices * * *.” AMS is committed to carrying out this authority in a manner that facilitates the marketing of agricultural commodities.

On December 4, 1995, the Voluntary United States Grade Standards for Rabbits and Poultry were removed from the Code of Federal Regulations (CFR) as part of the National Performance Review program. AMS continues to administer the voluntary standards, maintaining their existing numbering system, and copies of the official standards are available upon request.

Background and Comments

The U.S. Grade Standards for Rabbits have not been revised since developed on July 15, 1979. Since that time, rabbit producers and processors have requested that AMS clarify the rabbit standards by developing detailed defect tolerances for cuts and tears, discolorations, and freezing defects to reflect developing processing technology.

Additionally, the U.S. Grade Standards for Rabbits and Poultry were last revised on April 29, 1998. AMS is updating the current requirements for U.S. Grade C-quality ready-to-cook poultry to be consistent with requirements for Grades A- and B-quality poultry to facilitate application of the grades by the Agency and the industry.

On August 16, 2001, a Notice announcing the proposed changes was published in the Federal Register (66 FR 42988). No comments were received during the 60-day comment period.

The Agency expects the changes to assist in the marketing of graded rabbit and poultry products, and is, therefore, revising the subject standards as proposed. Copies of the revised United States Grade Standards for Poultry and Rabbits are available at www.ams.usda.gov/poultry/standards, or write to David Bowden, Jr., Chief, Standardization Branch, Poultry Programs, AMS, USDA, 1400 Independence Avenue, SW, STOP 0259, Washington, DC, 20250-0259; fax (202) 690-0941; or phone (202) 720-3506. The changes are summarized as follows:

Stewer Rabbits

AMS is adding stewer rabbits to the class of roaster and mature rabbits and decreasing the age requirement for these rabbits to 6 months of age. This change is consistent with actual rabbit grower and breeding terminology.

Grades A-, B-, and C-quality Rabbits

(1) Information provided for conformation and fleshing has been updated. Current grade criteria describe hip and back characterizations that are not applicable to meat-yielding rabbit breeds today.

(2) Disjointed and broken bone criteria is updated to reflect processing techniques, including the presence of broken bones due to the removal of head and feet. Descriptions are added to indicate points at which a bone may be broken in relation to the presence of meat tissue.

(3) The term “pockmarks” has been removed from the freezing defects section and replaced with “drying out of the outer layer of flesh.” AMS has found that the pockmarks traditionally found on skin-on poultry are not applicable to rabbits. The drying out of the outer layer of flesh (freezer burn) is a more descriptive explanation for freezing defects that occur on rabbit products during frozen storage.

(4) New tolerances are established for cuts and tears. Current standards do not provide for hand and mechanical cuts needed to start the hide or pelt removal process. Processors have said that since the hide or pelt must be removed from all rabbits, a provision for the normal processing cuts is needed. AMS agrees and worked with the industry to develop a tolerance for the cuts and tears to reflect industry-processing techniques.

(5) New discoloration tolerances include definitions to indicate whether slight, lightly shaded, or moderately shaded discolorations, blood clots, or incomplete bleeding will be allowed for each U.S. grade. Current standards do not indicate the dimensions for discolorations making the grade establishment of rabbit carcasses and parts more difficult.

U.S. Grade C-quality Standards for Poultry

AMS is clearly defining current U.S. Grade C-quality requirements in the same format that is used for Grades A- and B-quality poultry. Subject headings, text, and tables are added for poultry conformation, fleshing, fat covering, defeathering, exposed flesh, discolorations, trimming, and freezing defects.

The current C-quality requirements have been utilized by AMS grading staff for many years, and are already defined and printed in the Grade C-quality standard table and the Poultry Graders Handbook. No new requirements are imposed on industry with this format change.

Other miscellaneous changes are being made to remove obsolete material, clarify, and simplify the standards.

Authority: 7 U.S.C. 1621.

Dated: August 27, 2002.
A.J. Yates,
Administrator, Agricultural Marketing Service.

[FR Doc. 02-22521 Filed 9-3-02; 8:45 am]

BILLING CODE 3410-02-P